ENVIRONMENTAL PROTECTION AGENCY

[FRL-8542-7]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1764.04; National Volatile Organic Compound Emission Standards for Consumer Products (Renewal); in 40 CFR part 59, subpart C; was approved 02/08/2008; OMB Number 2060-0348; expires 02/28/2011.

EPA ICR Number 0222.08; EPA's In-Use Vehicle and Engine Testing Programs (Renewal); was approved 02/08/2008; OMB Number 2060-0086; expires 02/28/2011.

EPA ICR Number 1080.12; NESHAP for Benzene Emission from Benzene Storage Vessels and Coke By-product Recovery Plants (Renewal); in 40 CFR part 61, subpart L; was approved 02/14/2008; OMB Number 2060-0185; expires 02/28/2011.

EPA ICR Number 1854.06; ICR For NSPS Subparts VV and VVa: Equipment Leaks Of VOC In Synthetic Organic Chemical Manufacturing Industry (SOCMI); in 40 CFR part 61, subparts BB, Y, and V, 40 CFR part 60 subparts Ka, Kb, VV, VVa, DDD, III, NNN, and RRR, 40 CFR part 63, subparts F, G, H, and I, and 40 CFR part 65; was approved 02/14/2008; OMB Number 2060-0443; expires 02/28/2011.

EPA ICR Number 0328.14; NESHAP for Benzene Emission from Benzene Storage Vessels and Coke By-product Recovery Plants (Renewal); in 40 CFR part 61, subpart L; was approved 02/14/2008; OMB Number 2060-0185; expires 02/28/2011.

EPA ICR Number 1136.09; NSPS for VOC Emissions from Petroleum Refinery Wastewater Systems (Renewal); in 40 CFR part 60, subpart QQQ; was approved 02/21/2008; OMB Number 2060-0172; expires 02/28/2011.

EPA ICR Number 1860.03; Mercury Educator's Toolkit Survey Generic Information Collection; was approved 02/25/2008; OMB Number 2020-0015.

EPA ICR Number 1086.08; NSPS for Onshore Natural Gas Processing Plants (Renewal); in 40 CFR part 60, subparts KKK and LLL; was approved 02/25/2008; OMB Number 2060-0120; expires 02/28/2011.

EPA ICR Number 1730.06; NSPS for Hospital/Medical/Infectious Waste Incinerators (Renewal); in 40 CFR part 60, subpart Ec; was approved 02/25/2008; OMB Number 2060-0363; expires 02/28/2011.

EPA ICR Number 1363.15; Toxic Chemical Release Reporting (Form R) (Renewal); in 40 CFR part 372; was approved 03/02/2008; OMB Number 2070-0093; expires 03/31/2011.

EPA ICR Number 1704.09; Toxic Chemical Release Reporting, Alternate Threshold for Low Annual Reportable Amounts (Form A) (Renewal); in 40 CFR part 372; was approved 03/02/2008; OMB Number 2070-0143; expires 03/31/2011.

EPA ICR Number 1360.08; Underground Storage Tanks: Technical and Financial Requirements, and State Program Approval Procedures (Renewal); in 40 CFR part 280, and 281; was approved 03/02/2008; OMB Number 2050-0068; expires 03/31/2011.

EPA ICR Number 1572.07; Hazardous Waste Specific Unit Requirements and Special Waste Processes and Types (Renewal); in 40 CFR 265.1063, 40 CFR 265.1064, 40 CFR 265.11, 40 CFR 265.1101, 40 CFR 265.19, 40 CFR 265.191, 40 CFR 265.192, 40 CFR 265.225, 40 CFR 264.1035, 40 CFR 264.1036, 40 CFR 264.1034, 40 CFR 264.1061, 40 CFR 264.1062, 40 CFR 264.1063, 40 CFR 264.1064, 40 CFR 264.1065, 40 CFR 264.11, 40 CFR 264.1101, 40 CFR 264.19, 40 CFR 264.191, 40 CFR 264.196, 40 CFR 264.227, 40 CFR 264.254, 40 CFR 264.276, 40 CFR 264.28, 40 CFR 264.314, 40 CFR 264.343, 40 CFR 264.347, 40 CFR 264.57, 40 CFR 264.571, 40 CFR 264.573, 40 CFR 264.574, 40 CFR 264.603, 40 CFR 265.1033, 40 CFR 265.1034, 40 CFR 265.1035, 40 CFR 265.1061, 40 CFR 265.1062, 40 CFR 265.193, 40 CFR 265.196, 40 CFR 265.221, 40 CFR 265.222, 40 CFR 265.223, 40 CFR 264.253(b), (c), 40 CFR 264.278(a)-(f), (h), 40 CFR 265.226, 40 CFR 265.229, 40 CFR 265.254, 40 CFR 265.255, 40 CFR 264.278(g), 40 CFR 265.259, 40 CFR 265.26, 40 CFR 265.276, 40 CFR 265.278, 40 CFR 265.28, 40 CFR 265.301, 40 CFR 265.302, 40 CFR 265.303, 40 CFR 265.304, 40 CFR 265.314, 40 CFR 265.34, 40 CFR 265.352, 40 CFR 265.383, 40 CFR 265.404, 40 CFR 265.44, 40 CFR 265.441, 40 CFR 265.443, 40 CFR 265.444, 40 CFR 264.1033(j), 40 CFR 264.113(e), 40 CFR 264.192(g), 40 CFR 264.193(i), 40 CFR 264.197(b), 40 CFR 264.222(b), 40 CFR 264.223(b), (c), 40 CFR 264.226(c), 40 CFR 264.226(d), 40 CFR 264.252(b), 40 CFR 264.302(b), 40 CFR 264.303(b), 40 CFR 264.304(b), (c), 40 CFR 265.113(e), 40 CFR 265.197(b), 40 CFR 266.70(c); was approved 03/02/2008; OMB Number 2050-0050; expires 03/31/2011.

EPA ICR Number 1755.08; Regulatory Reinvention Pilots (Renewal); was approved 03/07/2008; OMB Number 2010-0026; expires 03/31/2011.

Comment and Continue

EPA ICR Number 0328.14; Revisions to the Spill Prevention, Control and Countermeasure (SPCC) Plans Rule (Proposed Rule); on 02/14/2008 OMB filed comment.

EPA ICR Number 2276.01; PSD for PM 2.5 (Proposed Rule); on 02/15/2008 OMB filed comment.

Dated: March 11, 2008.
Sara Hisel-McCoy,
Director, Collection Strategies Division.

[FR Doc. E8-5285 Filed 3-14-08; 8:45 am]

BILLING CODE 6560-50-P